DEPARTMENT OF HEALTH AND HUMAN SERVICES

National Institutes of Health

National Cancer Institute; Amended Notice of Meeting

Notice is hereby given of a change in the meeting of the National Cancer Institute Special Emphasis Panel, March 10, 2010, 8 a.m. to March 11, 2010, 6 p.m., Bethesda Marriott, 5151 Pooks Hill Road, Bethesda, MD 20814 which was published in the Federal Register on February 1, 2010, 75 FR 5093.

This FRN amends the dates of the meeting to May 10-11, 2010. The meeting is closed to the public.

Dated: February 24, 2010.
Jennifer Spaeth,
Director, Office of Federal Advisory Committee Policy.

[FR Doc. 2010-4184 Filed 2-26-10; 8:45 am]

BILLING CODE 4140-01-P